COMMITTEE FOR PURCHASE FROM PEOPLE WHO ARE BLIND OR SEVERELY DISABLED

Procurement List; Proposed Deletions

AGENCY: Committee for Purchase From People Who Are Blind or Severely Disabled.

ACTION: Proposed deletions from the Procurement List.

SUMMARY: The Committee is proposing to deletes product(s) that were furnished by nonprofit agencies employing persons who are blind or have other severe disabilities.

DATES: Comments must be received on or before: September 3, 2023.

ADDRESSES: Committee for Purchase From People Who Are Blind or Severely Disabled, 355 E Street SW, Suite 325, Washington, DC 20024.

FOR FURTHER INFORMATION CONTACT: Michael R. Jurkowski, Telephone: (703) 785-6404, or email CMTEFedReg@AbilityOne.gov.

SUPPLEMENTARY INFORMATION: This notice is published pursuant to 41 U.S.C. 8503 (a)(2) and 41 CFR 51-2.3. Its purpose is to provide interested persons an opportunity to submit comments on the proposed actions.

Deletions

The following product(s) are proposed for deletion from the Procurement List:

Product(s)

NSN(s)—Product Name(s):

8415-01-518-4561—Pants, Physical Training Uniform, USAF, Blue, X-Small/Short

8415-01-518-4562—Pants, Physical Training Uniform, USAF, Blue, X-Small/Regular

8415-01-518-4563—Pants, Physical Training Uniform, USAF, Blue, X-Small/Long

8415-01-518-4564—Pants, Physical Training Uniform, USAF, Blue, Small/Short

8415-01-518-4565—Pants, Physical Training Uniform, USAF, Blue, Small/Regular

8415-01-518-4566—Pants, Physical Training Uniform, USAF, Blue, Small/Long

8415-01-518-4567—Pants, Physical Training Uniform, USAF, Blue, Medium/Short

8415-01-518-4568—Pants, Physical Training Uniform, USAF, Blue, Medium/Regular

8415-01-518-4570—Pants, Physical Training Uniform, USAF, Blue, Medium/Long

8415-01-518-4571—Pants, Physical Training Uniform, USAF, Blue, Large/Short

8415-01-518-4572—Pants, Physical Training Uniform, USAF, Blue, Large/Regular

8415-01-518-4573—Pants, Physical Training Uniform, USAF, Blue, Large/Long

8415-01-518-4574—Pants, Physical Training Uniform, USAF, Blue, X-Large/Short

8415-01-518-4575—Pants, Physical Training Uniform, USAF, Blue, X-Large/Regular

8415-01-518-4576—Pants, Physical Training Uniform, USAF, Blue, X-Large/Long

8415-01-518-4577—Pants, Physical Training Uniform, USAF, Blue, XX-Large/Short

8415-01-518-4578—Pants, Physical Training Uniform, USAF, Blue, XX-Large/Regular

8415-01-518-4579—Pants, Physical Training Uniform, USAF, Blue, XX-Large/Long

8415-01-518-4580—Pants, Physical Training Uniform, USAF, Blue, XXX-Large/Short

8415-01-518-4581—Pants, Physical Training Uniform, USAF, Blue, XXX-Large/Regular

8415-01-518-4582—Pants, Physical Training Uniform, USAF, Blue, XXX-Large/Long

8415-01-518-4583—Pants, Physical Training Uniform, USAF, Blue, XXXX-Large/Short

8415-01-518-4584—Pants, Physical Training Uniform, USAF, Blue, XXXX-Large/Regular

8415-01-518-4585—Pants, Physical Training Uniform, USAF, Blue, XXXX-Large/Long

8415-01-521-0426—Pants, Physical Training Uniform, USAF, Blue, Small/X-Short

8415-01-521-0452—Pants, Physical Training Uniform, USAF, Blue, Medium/X-Short

8415-01-521-0453—Pants, Physical Training Uniform, USAF, Blue, Large/X-Short

8415-01-521-0454—Pants, Physical Training Uniform, USAF, Blue, X Large/X-Short

8415-01-521-0455—Pants, Physical Training Uniform, USAF, Blue, XXX Large/X-Short

8415-01-521-0456—Pants, Physical Training Uniform, USAF, Blue, XX Large/X-Short

8415-01-521-0458—Pants, Physical Training Uniform, USAF, Blue, XXXX Large/X-Short

8415-01-528-8025—Pants, Physical Training Uniform, USAF, X Small/X-Short

Designated Source of Supply: Alphapointe, Kansas City, MO

Mandatory Source of Supply: Lions Services, Inc., Charlotte, NC

Mandatory Source of Supply: LC Industries, Inc., Durham, NC

Mandatory Source of Supply: Goodwill Vision Enterprises, Rochester, NY

Contracting Activity: DLA TROOP SUPPORT, PHILADELPHIA, PA

NSN(s)—Product Name(s):MR 1114—Mat, Sink, Small

Mandatory Source of Supply: CINCINNATI ASSOCIATION FOR THE BLIND AND VISUALLY IMPAIRED, Cincinnati, OH

Contracting Activity: Military Resale-Defense Commissary Agency

Michael R. Jurkowski,
Acting Director, Business Operations.

[FR Doc. 2023-16647 Filed 8-3-23; 8:45 am]

BILLING CODE 6353-01-P